ENVIRONMENTAL PROTECTION AGENCY

40 CFR Part 704

[EPA-HQ-OPPT-2010-0572; FRL-9926-86]

Chemical Substances When Manufactured or Processed as Nanoscale Materials; TSCA Reporting and Recordkeeping Requirements; Notice of Public Meeting

AGENCY: Environmental Protection Agency (EPA).

ACTION: Notice of public meeting.

SUMMARY: EPA is holding a public meeting during the comment period of the proposed rule that published in the Federal Register of April 6, 2015, which involved proposed reporting and recordkeeping requirements for certain chemical substances when they are manufactured or processed at the nanoscale. Specifically, that proposal involves one-time reporting for existing nanoscale materials and one-time reporting for new discrete nanoscale materials before they are manufactured or processed. As stated in that proposed rule, the public meeting will provide an opportunity for further discussion of the proposed requirements and is intended to facilitate comments on all aspects of that proposed rule, especially comments on specific issues as identified in the proposed rule.

DATES: The meeting will be held on June 11, 2015, from 9:00 a.m. to 4:00 p.m. Requests to participate in the meeting must be received on or before June 1, 2015.

To request accommodation of a disability, please contact the technical person listed under FOR FURTHER INFORMATON CONTACT, preferably at least 10 days prior to the meeting, to give EPA as much time as possible to process your request.

ADDRESSES: The meeting will be held at the East William Jefferson Clinton Building, Room 1153, 1201 Constitution Avenue NW., Washington, DC.

FOR FURTHER INFORMATION CONTACT: For technical information contact: Jim Alwood, Chemical Control Division (7405M), Office of Pollution Prevention and Toxics, Environmental Protection Agency, 1200 Pennsylvania Ave. NW., Washington, DC 20460-0001; telephone number: (202) 564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION:

I. What is the topic of this public meeting?

In the Federal Register issue of April 6, 2015 (80 FR 18330; FRL-9920-90), EPA proposed reporting and recordkeeping requirements for certain chemical substances when they are manufactured or processed at the nanoscale. EPA is seeking public comment on all aspects of the proposed rule. In addition, EPA is especially interested in comments pertaining to the following specific issues identified in Unit V. of the proposed rule:

1. Identifying the chemical substances that would be subject to reporting.

2. Distinguishing between nanoscale forms of a reportable chemical substance.

3. Reporting discrete forms at least 135 days before commencement of manufacture or processing.

4. Considerations for the Agency's economic analysis.

5. Electronic reporting.

6. Consideration of potential future rulemaking regarding periodic reporting.

II. How can I request to participate in this meeting?

Requests to participate in this meeting, as well as any requests for accommodation of a disability, should be submitted directly to the technical person listed under FOR FURTHER INFORMATION CONTACT. Do not submit any information in your request that is considered Confidential Business Information (CBI), and do not submit any comments. Such requests must be received on or before June 1, 2015.

Please remember that your comments must be submitted in accordance with the instructions in the proposed rule; must be identified by docket ID number EPA-HQ-OPPT-2010-0572; and must be received on or before July 6, 2015.

III. How can I access the docket for the Proposed Rule?

The docket for the proposed rule, identified by docket identification (ID) number EPA-HQ-OPPT-2010-0572, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

Authority: 15 U.S.C. 2607(a).

Dated: May 4, 2015.
Maria J. Doa,
Director, Chemical Control Division, Office of Pollution Prevention and Toxics.

[FR Doc. 2015-11215 Filed 5-7-15; 8:45 am]

BILLING CODE 6560-50-P